DEPARTMENT OF COMMERCE

Foreign-Trade Zones Board

[B-72-2015]

Foreign-Trade Zone (FTZ) 57—Charlotte, North Carolina, Authorization of Production Activity, DNP Imagingcomm America Corporation, Subzone 57C (Dye Sublimation Transfer Ribbon (STR) and STR Photo Printer Packages), Concord, North Carolina

On October 27, 2015, the Charlotte Regional Partnership, Inc., grantee of FTZ 57, submitted a notification of proposed production activity to the FTZ Board on behalf of DNP Imagingcomm America Corporation (DNP), operator of Subzone 57C, located in Concord, North Carolina.

The notification was processed in accordance with the regulations of the FTZ Board (15 CFR part 400), including notice in the Federal Register inviting public comment (80 FR 69637, November 10, 2015). The FTZ Board has determined that no further review of the proposed activity is warranted at this time. The production activity described in the notification is authorized, subject to the FTZ Act and the Board's regulations, including Section 400.14, and further subject to a restriction requiring that DNP admit any foreign component or material subject to a trade-related measure/proceeding to Subzone 57C in domestic (duty-paid) status (19 CFR Sec. 146.43). Activity beyond this scope of authority would require further authorization from the FTZ Board.

Dated: February 24, 2016.
Andrew McGilvray,
Executive Secretary.

[FR Doc. 2016-04515 Filed 2-29-16; 8:45 am]

BILLING CODE 3510-DS-P